DEPARTMENT OF DEFENSE

Department of the Army; Corps of Engineers

Cancellation of the Notice of Intent To Prepare a Draft Environmental Impact Statement for the Potential Multipurpose Projects for Ecosystem Restoration, Flood Damage Reduction, and Recreation Alternatives Within and Along the Portion of the San Antonio River Located in San Antonio, Bexar County, TX

AGENCY: Department of the Army, U.S. Army Corps of Engineers, DoD.

ACTION: Notice; cancellation.

SUMMARY: The Fort Worth District, U.S. Army Corps of Engineers hereby cancels its notice of intent to prepare a Draft Environmental Impact Statement (DEIS) for the potential multipurpose projects for ecosystem restoration, flood damage reduction, and recreation alternatives within and along the portion of the San Antonio River located in San Antonio, Bexar County, TX, as published in the Federal Register on April 25, 2002 (67 FR 20497).

Section 335 of the Water Resources Development Act (WRDA) of 2000, passed by Congress, amended the San Antonio Channel Improvement Project (SACIP) by authorizing ecosystem restoration and recreation as project purposes in addition to the previously authorized flood damage reduction project purpose. An initial assessment based on implementation guidance for section 335 indicated a Federal interest in continuing with more detailed studies for these purposes. In accordance with the National Environmental Policy Act (NEPA), the DEIS was required to evaluate and compare ecosystem restoration, flood damage reduction, and recreation alternatives within and along two reaches of the San Antonio River. The DEIS was also required to assess the impacts to the quality of the human environment associated with each design alternative.

Past channelization and clearing of floodways associated with the SACIP, along with urbanization, have significantly degraded the terrestrial and aquatic habitat along and within the San Antonio River. Consequently, ecosystem restoration measures were developed and evaluated to address the degraded habitats. In addition, recreation measures were developed and evaluated as complements to proposed ecosystem restoration measures. The preliminary lack of significant adverse impacts from proposed project design alternatives and the lack of public controversy indicated that a DEIS was no longer required under NEPA. Instead, the U.S. Army Corps of Engineers will prepare a Draft Environmental Assessment (DEA) for the potential multipurpose projects for ecosystem restoration, flood damage reduction, and recreation alternatives within and along the portion of the San Antonio River located in San Antonio, Bexar County, TX. Therefore, the cancellation of the Notice of Intent (NOI) to prepare a DEIS is being filed for publication in the Notice Section of the Federal Register.

FOR FURTHER INFORMATION CONTACT: Mr. Eli A. Kangas, CESWF-PER-PF, U.S. Army Corps of Engineers, Fort Worth District, P.O. Box 17300, 819 Taylor Street, Fort Worth, TX 76102-0300, phone (817) 886-1924, fax (817) 886-6498.

SUPPLEMENTARY INFORMATION: Alternatives for ecosystem restoration, flood damage reduction, and recreation are being developed and evaluated based on ongoing fieldwork and data collection and past studies conducted by the U.S. Army Corps of Engineers, the San Antonio River Authority, and the City of San Antonio. Ecosystem restoration alternatives that are being evaluated include restoring meanders within the San Antonio River, restoring, protecting and expanding the riparian corridor, creating riffle-pool complexes, and constructing wetlands. It is anticipated that ecosystem restoration alternatives would aid in improving water quality, optimizing aquatic and terrestrial habitat, and minimizing erosion and scouring along and within the river. Alternatives for flood damage reduction measures are being evaluated from both a non-structural and structural aspect. Non-structural measures that will be evaluated include acquisition and removal of structures or flood proofing of structures for protection from potential future flood damage. Structural measures that are being evaluated include diversion channels and/or channel modifications of various widths and depths and/or a combination of these measures. Recreation measures that are being evaluated include multipurpose trails and passive recreation features, such as interpretive guidance, media, and picnic areas. Recreation measures will be developed to a scope and scale compatible with proposed ecosystem restoration measures without significantly diminishing ecosystem benefits.

The public will be given the opportunity to review the DEA during the 30-day public comment period. Prior to the close of the comment period, any person may make a written request for a public meeting, setting forth the particular reasons for the request. The District Engineer will then determine whether the issues raised are substantial and should be considered in his decision. If a public meeting is warranted, all known interested parties will be notified of the time, date, and location of such a meeting in the local news media. Release of the DEA for public comment is scheduled for June 2004. The exact release date, once established, will be announced in the local news media.

Dated: April 21, 2004.
John R. Minahan,
Colonel, Corps of Engineers, Commanding.

[FR Doc. 04-10184 Filed 5-4-04; 8:45 am]

BILLING CODE 3710-20-M